SOCIAL SECURITY ADMINISTRATION

[Docket No. SSA-2024-0013]

Privacy Act of 1974; Matching Program

AGENCY: Social Security Administration (SSA).

ACTION: Notice of a New Matching Program.

SUMMARY: In accordance with the provisions of the Privacy Act, as amended, this notice announces a new matching program with Center for Medicare & Medicaid Services (CMS).

DATES: Submit comments on the proposed matching program no later than January 2, 2025.

The matching program will be applicable on January 2, 2025, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2024-0013 so that we may associate your comments with the correct regulation. CAUTION: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2024-0013 and then submit your comments. The system will issue you a tracking number to confirm your submission. You will not be able to view your comment immediately because we must post each submission manually. It may take up to a week for your comments to be viewable.

2. Fax: Fax comments to (833) 410-1613.

3. Mail: Matthew Ramsey, Executive Director, Office of Privacy and Disclosure, Office of the General Counsel, Social Security Administration, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Cynthia Scott, Division Director, Office of Privacy and Disclosure, Office of the General Counsel, Social Security Administration, 6401 Security Boulevard, Baltimore, MD 21235-6401, at telephone: (410) 966-1943, or send an email to Cynthia.Scott@ssa.gov.

SUPPLEMENTARY INFORMATION:

PARTICIPATING AGENCIES:

SSA and CMS.

AUTHORITY FOR CONDUCTING THE MATCHING PROGRAM:

This matching agreement is between SSA and CMS. This agreement is executed in compliance with the Privacy Act of 1974 (Privacy Act) (5 U.S.C. 552a), as amended by the Computer Matching and Privacy Protection Act of 1988, as amended, and the regulations and guidance promulgated thereunder.

Sections 202 and 223 of the Social Security Act (Act) (42 U.S.C. 402 and 423) outline the requirements for eligibility to receive Old-Age, Survivors, and Disability Insurance Benefits under Title II of the Act. Section 205(c) of the Act (42 U.S.C. 405) directs the Commissioner of SSA to verify the eligibility of a beneficiary. Section 704(e) of the Act (42 U.S.C. 904(e)) provides that SSA and the Department of Health and Human Services shall enter into agreements as may be necessary to provide information to each other to meet the programmatic needs of the requesting agency.

This matching program employs CMS systems containing Protected Health Information (PHI) as defined by Health and Human Services regulation “Standards for Privacy of Individually Identifiable Health Information” (45 CFR 160 and 164). PHI may only be disclosed by CMS without the written authorization of the individual, or the opportunity for the individual to agree or object, as permitted or required by the routine uses or “Standards” provided for in 45 CFR 164.512.

PURPOSE(s):

This agreement sets forth the terms and conditions under which CMS will disclose to SSA Medicare non-utilization information for Social Security Title II beneficiaries aged 90 and above.

CMS will identify Medicare enrollees whose records have been inactive for three or more years. SSA will use this data as an indicator to select and prioritize cases for review to determine continued eligibility for benefits under Title II of the Act. SSA will contact these individuals to verify ongoing eligibility. In addition, SSA will use this data for the purposes of fraud discovery and the analysis of fraud programs operations. This agreement allows for SSA to evaluate the data for the purposes of fraud detection. SSA will refer individual cases of suspected fraud, waste, or abuse to the Office of the Inspector General for investigation.

CATEGORIES OF INDIVIDUALS:

The individuals whose information is involved in this matching program are Social Security Title II beneficiaries aged 90 and above.

CATEGORIES OF RECORDS:

SSA will provide CMS with a finder file containing the following information for each individual: (a) Title II Claim Account Number (CAN); (b) Title II Beneficiary Identification Code (BIC); (c) First Name, (d) Last Name, and (e) Date of birth.

CMS will provide SSA with a response file containing the following information for each individual: (a) CMS File Number (identified as a Health Insurance Claim Number (HICN) or Medicare Beneficiary Identifier (MBI)); (b) Whether CMS matched Beneficiary or individual is a Medicare beneficiary; (c) Whether individual is a Medicaid recipient; (d) Whether Medicare was used in the last 3 years; (e) Whether the beneficiary is a part of an Health Maintenance Organization; (f) Whether the beneficiary lives in a nursing home; (g) Whether the beneficiary has private health insurance; (h) Whether the beneficiary has veteran's health insurance; or (i) Whether the beneficiary has Tricare insurance.

SYSTEM(S) OF RECORDS:

SSA will disclose to CMS information from the Master Beneficiary Record (MBR) (60-0090), last fully published January 11, 2006 (71 FR 1826), as amended on December 10, 2007 (72 FR 69723), July 5, 2013 (78 FR 40542), July 3, 2018 (83 FR 31250-31251), and November 1, 2018 (83 FR 54969) and 890 FR 825 (January 5, 2024).

SSA will retain data elements from the CMS response file in the Anti-Fraud Systems (60-0388), last fully published December 11, 2020 (85 FR 80211) for SSA fraud-related analytics or data that leads SSA to initiate a fraud investigation.

CMS will disclose to SSA information from the following Systems of Record (SORs): (a) National Claims History (NCH) (09-70-0558), published November 20, 2006 (71FR 67137); (b) Enrollment Data Base (EDB) (09-70-0502), published February 26, 2008 at 73FR 10249; and (c) The Long Term Care—Minimum Data Set (MDS) (90-70-0528), published March 19, 2007 at 72 FR 12801.

SSA's and CMS's SORs have routine uses permitting the disclosures needed to conduct this match.

Matthew Ramsey,
Executive Director, Office of Privacy and Disclosure, Office of the General Counsel.

[FR Doc. 2024-28313 Filed 12-2-24; 8:45 am]

BILLING CODE 4191-02-P